DEPARTMENT OF HOMELAND SECURITY

Coast Guard

33 CFR Part 117

[Docket No. USCG-2010-0973]

Drawbridge Operation Regulation; New Jersey Intracoastal Waterway (NJICW), Point Pleasant Canal, NJ

AGENCY: Coast Guard, DHS.

ACTION: Notice of temporary deviation from regulations.

SUMMARY: The Commander, Fifth Coast Guard District, has issued a temporary deviation from the regulations governing the operation of the Route 88/Veterans Memorial Bridge across Point Pleasant Canal, at NJICW mile 3.0, in Point Pleasant, NJ. This closure is necessary to facilitate extensive mechanical rehabilitation and to maintain the bridge's operational integrity.

DATES: This deviation is effective from 7 a.m. on December 15, 2010 through 11:59 p.m. on March 15, 2011.

ADDRESSES: Documents mentioned in this preamble as being available in the docket are part of docket USCG-2010-0973 and are available online by going to http://www.regulations.gov, inserting USCG-2010-0973 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Waverly W. Gregory, Jr., Bridge Administrator, Fifth Coast Guard District; telephone 757-398-6222, e-mail Waverly.W.Gregory@uscg.mil. If you have questions on viewing the docket, call Renee V. Wright, Program Manager, Docket Operations, telephone 202-366-9826.

SUPPLEMENTARY INFORMATION: The New Jersey Department of Transportation (NJDOT) owns and operates the vertical-lift span of the Route 88/Veterans Memorial Bridge across Point Pleasant Canal along the NJICW, in Point Pleasant, NJ. The bridge has a vertical clearance in the closed position to vessels of 10 feet, above mean high water. The current operating regulations are outlined at 33 CFR 117.5, which require the bridge to open is given.

The contractor, Agate Construction on behalf of NJDOT, has requested a temporary deviation to the existing regulations for the Route 88/Veterans Memorial Bridge to facilitate necessary repairs. The repairs consist of the replacement of bridge traffic control devices (barrier gates, warning gates, and bridge traffic control signals) along with major electrical rehabilitation. Under this deviation, the vertical-lift span of the drawbridge will be maintained in the closed-to-navigation position from 7 a.m. on December 15, 2010, through 11:59 p.m. on March 15, 2011.

Bridge opening data, supplied by NJDOT and reviewed by the Coast Guard, revealed a small amount of vessel openings of the draw span between the months of December and March in 2008 and 2009. Specifically, the bridge opened for vessels 15, 0, 0, and 4 times during the months of December 2008 to March 2009; and during the months of December 2009 to March 2010, the bridge opened for vessels 14, 0, 0, and 8 times, respectively.

The Coast Guard will inform the users of the waterway through our Local and Broadcast Notices to Mariners of the closure period so that vessels can arrange their transits to minimize any impact caused by the temporary deviation.

Vessels that can pass under the bridge without a bridge opening may continue to do so at anytime. The Atlantic Ocean is an alternate route for vessels with mast heights greater than 10 feet. In the event of an emergency, the drawbridge will open for vessels if at least 24 hours' advance notice is given to the bridge operator.

In accordance with 33 CFR 117.35(e), the drawbridge must return to its regular operating schedule immediately at the end of the designated time period. This deviation from the operating regulation is authorized under 33 CFR 117.35.

Dated: October 14, 2010.
Waverly W. Gregory, Jr.,
Chief, Bridge Administration Branch, Fifth Coast Guard District.

[FR Doc. 2010-27237 Filed 10-27-10; 8:45 am]

BILLING CODE 9110-04-P